DEPARTMENT OF THE INTERIOR

National Indian Gaming Commission

Notice of Approved Class III Tribal Gaming Ordinance

AGENCY: National Indian Gaming Commission.

ACTION: Notice.

SUMMARY: The purpose of this notice is to inform the public of the approval of Pawnee Nation of Oklahoma Class III gaming ordinance by the Chairman of the National Indian Gaming Commission.

DATES: This notice is applicable January 6, 2023.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710 (d) (2) (B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710 (d) (2) (B). Every ordinance and approval thereof is posted on the Commission's website (www.nigc.gov) under General Counsel, Gaming Ordinances within five (5) business days of approval.

On November 22, 2022, the Chairman of the National Indian Gaming Commission approved Pawnee Nation of Oklahoma Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: December 20, 2022.
Michael Hoenig,
General Counsel.

November 22, 2022

VIA E-MAIL

Walter Echo-Hawk, President,

Pawnee Nation of Oklahoma Business Council 881 Little Dee Drive

Pawnee, Oklahoma 74058

Re: Pawnee Nation of Oklahoma Revised Gaming Ordinance

Dear Mr. Echo-Hawk:

This letter responds to your September 2, 2022 request for the National Indian Gaming Commission Chairman to review and approve the Revised Pawnee Nation of Oklahoma Gaming Ordinance. The Pawnee Nation of Oklahoma Business Council approved the revisions to the Pawnee Nation Gaming Ordinance on August 23, 2022 pursuant to Statute #22-04 and made technical amendments on October 27, 2022 pursuant to Statute #22-06. These revisions include the authorization of Class I gaming; modifications to the Nation's Gaming Commission including assignment of responsibilities between the Gaming Commission as a body and the Gaming Commission's staff; clarification of the process for enforcement actions; and the distinction between civil and criminal violations. Thank you for bringing these gaming ordinance amendments to our attention and for providing us with a copy. The ordinance is approved as it is consistent with the Indian Gaming Regulatory Act and NIGC regulations. If you have any questions concerning this letter or the ordinance review process, please contact Staff Attorney Danielle Wu at danielle.wu@nigc.gov.

Sincerely,

E. Sequoyah Simermeyer, Chairman

[FR Doc. 2023-00082 Filed 1-5-23; 8:45 am]

BILLING CODE 7565-01-P